DEPARTMENT OF TRANSPORTATION

Federal Highway Administration

Environmental Impact Statement: Fairfield County and New Haven County, CT

AGENCY: Federal Highway Administration (FHWA), Department of Transportation (DOT).

ACTION: Notice of Intent.

SUMMARY: The FHWA is issuing this notice to advise the public that an environmental impact statement will be prepared for proposed transportation improvements to 32 miles (52 km) of Interstate Route 84 (I-84) in Fairfield County and New Haven County, Connecticut.

FOR FURTHER INFORMATION CONTACT: Bradley D. Keazer, Division Administrator, Federal Highway Administration, 628-2 Hebron Avenue, Suite 303, Glastonbury, Connecticut 06033, telephone (860) 659-6703, ext. 3009; or Edgar T. Hurle, Transportation Planning Director, Bureau of Policy and Planning, Connecticut Department of Transportation, 2800 Berlin Turnpike, P.O. Box 317546, Newington, CT 06131-7546, telephone: (860) 594-2920.

SUPPLEMENTARY INFORMATION: The FHWA, in cooperation with the Connecticut Department of Transportation (ConnDOT), will prepare an environmental impact statement (EIS) on a proposal for transportation improvements to I-84 in the towns of Danbury, Bethel, Brookfield, Newtown, Southbury, Middlebury and Waterbury, Connecticut for a distance of approximately 32 miles (52 km).

Improvements to the I-84 corridor are considered necessary to improve safety and to provide for increases in projected traffic volumes. Alternatives under consideration include, but are not limited to: (1) Taking no action; (2) transit operation service; (3) transportation system management; (4) addition of a third travel lane in each direction; (5) addition of a third travel lane in each direction with congestion pricing; and (6) addition of a third travel lane in each direction for use as managed travel lanes.

Letters describing the proposed action and soliciting comments will be sent to appropriate Federal, State, and local agencies, the I-84 Corridor Deficiencies/Needs Study Project Advisory Committee, and to private organizations and citizens who have previously expressed or are known to have an interest in this proposal. Public scoping meetings, public hearings and public informational meetings will be held. Public notice will be given of the time and place of these meetings and hearings. The draft EIS will be available for public and agency review and comment prior to the public hearings.

To ensure that the full range of issues related to this proposed action are addressed and all significant issues identified, comments and suggestions are invited from all interested parties. Comments or questions concerning this proposed action and the EIS should be directed to either the FHWA or ConnDOT at the addresses provided above.

(Catalog of Federal Domestic Assistance Program Number 20.205, Highway Planning and Construction. The regulations implementing Executive Order 12372 regarding intergovernmental consultation on Federal programs and activities apply to this program.)
Authority: 23 CFR part 771.
Issued on: March 31, 2005.
Bradley D. Keazer,
Division Administrator, Hartford, Connecticut.

[FR Doc. 05-7232 Filed 4-8-05; 8:45 am]

BILLING CODE 4910-22-M